DEPARTMENT OF TRANSPORTATION

Federal Highway Administration

Notice of Final Federal Agency Actions on the Round Hill Pines Access Project Along U.S. Highway 50 in the State of Nevada

AGENCY: Federal Highway Administration (FHWA), Transportation (DOT).

ACTION: Notice of limitation on claims for judicial review of actions by FHWA and other federal agencies.

SUMMARY: This notice announces actions taken by FHWA and other Federal agencies that are final. This final agency action relates to a proposed highway project, the relocation of the Round Hill Pines Resort access road and U.S. Highway 50 intersection, construction of a new access road to the Round Hill Pines Resort, and improvements to a 0.35-mile segment of U.S. Highway 50 near Zephyr Cove, Nevada. The FHWA's Finding of No Significant Impact (FONSI) provides details on the Selected Alternative for the proposed improvements.

DATES: By this notice, FHWA is advising the public of final agency actions subject to 23 U.S.C. 139(l)(1). A claim seeking judicial review of the Federal agency actions on the highway project will be barred unless the claim is filed on or before March 17, 2022. If the Federal law that authorizes judicial review of a claim provides a time period of less than 150 days for filing such claim, then that shorter time period still applies.

FOR FURTHER INFORMATION CONTACT: Ryan Mathis, Project Manager, Federal Highway Administration, Central Federal Lands Highway Division, 12300 W. Dakota Avenue, Suite 380, Lakewood, Colorado 80228, Telephone (720) 963-3728, Email: ryan.mathis@dot.gov. Regular office hours are 8:00 a.m. to 5:00 p.m. (Mountain Time).

SUPPLEMENTARY INFORMATION: Notice is hereby given that FHWA has taken a final agency action by issuing FONSI for the following highway project in the State of Nevada: Round Hill Pines Access Project near Zephyr Cove in Douglas County.

The project includes the relocation of the Round Hill Pines Resort access road and U.S. Highway 50 intersection just north from the existing location. The Round Hill Pines Resort is located within the United States Forest Service, Lake Tahoe Basin Management Unit. The Project will also include widening along U.S. Highway 50 at the relocated intersection to accommodate a median left turn bay and an acceleration lane. The median left turn bay would accommodate travelers who are headed northbound along U.S. Highway 50 and are turning across traffic to enter the Round Hill Pines Resort. U.S. Highway 50 within the project area would receive a pavement mill and overlay, lane striping, pavement markings, and a safety edge in addition to the relocated intersection widening. The Round Hill Pines Resort access road would be approximately 0.14-mile in length constructed on new alignment and would accommodate two travel lanes with safety shoulders.

The FHWA's action, related actions by other Federal agencies, and the laws under which such actions were taken, are described in the Environmental Assessment (EA) approved on May 28, 2021, and the FONSI approved on October 1, 2021, and other documents in the project file. The EA and FONSI are available for review by contacting FHWA at the addresses provided above. In addition, these documents can be viewed and downloaded from the project website: https://highways.dot.gov/federal-lands/projects/nv/round-hill-pines. This notice applies to all Federal agency decisions as of the issuance date of this notice and all laws under which such actions were taken, including by not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act (ESA) [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(M, 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (l)(1).

Issued on: October 1, 2021.
Amy S. Fox,
Acting Division Director, Lakewood, Colorado.

[FR Doc. 2021-22550 Filed 10-15-21; 8:45 am]

BILLING CODE 4910-RY-P